DEPARTMENT OF TRANSPORTATION

Federal Aviation Administration

14 CFR Part 39

[Docket No. 89-ANE-10-AD; Amendment 39-13644; AD 2004-10-14]

RIN 2120-AA64

Airworthiness Directives; Lycoming Engines (Formerly Textron Lycoming), Direct-Drive Reciprocating Engines; Correction

AGENCY: Federal Aviation Administration, DOT.

ACTION: Final rule; correction.

SUMMARY: This document makes corrections to Airworthiness Directive (AD) 2004-10-14, applicable to Lycoming Engines (formerly Textron Lycoming), direct-drive reciprocating engines that was published in the Federal Register on May 21, 2004 (69 FR 29210). Some corrections to engine models have been made by adding missing dashes, clarification to changes in requirements from the proposed rule are made, and some corrections are made for clarification in the compliance section. In all other respects, the original document remains the same.

DATES: Effective Date: Effective June 28, 2004.

FOR FURTHER INFORMATION CONTACT: Norm Perenson, Aerospace Engineer, New York Aircraft Certification Office, FAA, 1600 Stewart Avenue, Suite 410, Westbury, NY 11590; telephone (516) 228-7337; fax (516) 794-5531.

SUPPLEMENTARY INFORMATION: A final rule AD, FR Doc. 04-11406, applicable to Lycoming Engines direct-drive reciprocating engines (except O-145, O-320-H, O-360-E, IO-360-E, LTO-360-E, O-435, and TIO 541 series engines), was published in the Federal Register on May 21, 2004 (69 FR 29210). The following corrections are needed:

On page 29210, in the second column, in the SUMMARY section, in the sixth and seventh lines, “O-320H, O-360E, LO-360E, LTO-360E” are corrected to read “O-320-H, O-360-E, LO-360-E, LTO-360-E, TO-360-E”.

In the third column, in the SUMMARY section, in the 14th line, after the words “propeller strike.”, a sentence is added to read “This AD removes the requirement to perform inspections at overhaul and during repair of the gear train, because Lycoming has incorporated those procedures from their Service Bulletin into their Overhaul Manual.”

Also in the third column, in the SUPPLEMENTARY INFORMATION section, in the seventh and eighth lines, “O-320H, O-360E, LO-360E, LTO-360E” is corrected to read “O-320-H, O-360-E, LO-360-E, LTO-360-E, TO-360-E”.

On page 29211, in the second column, after the second paragraph, add the following paragraph:

Other Corrections

The TO-360-E engine model was inadvertently omitted from the list of exceptions of engines. That engine model has been added to the list of exceptions of engines not affected by this AD. Also, some of the engine model numbers were missing dashes and are corrected in this AD. Also, the phrase of after the effective date of this AD, was inadvertently omitted from paragraph (e). This phrase is added to paragraph (e) to cover engines that experience a propeller strike after the effective date of the AD.

§ 39.13 [Corrected]

Also, on page 29211, in the third column, eighth paragraph, fourth and fifth lines, “O-320H, O-360E, LO-360E, LTO-360E” is corrected to read “O-320-H, O-360-E, LO-360-E, LTO-360-E, TO-360-E”.

Also, on page 29211, in the third column, paragraph (e), which reads “Compliance with this AD is required as indicated before further flight if the engine has experienced a propeller strike as defined in paragraphs (i) and (j) of this AD, unless already done.” is corrected to read “Compliance with this AD is required as indicated before further flight if the engine experiences a propeller strike after the effective date of this AD, as defined in paragraphs (i) and (j) of this AD.”.

Issued in Burlington, MA, on June 18, 2004.
Francis A. Favara,
Acting Manager, Engine and Propeller Directorate, Aircraft Certification Service.

[FR Doc. 04-14477 Filed 6-25-04; 8:45 am]

BILLING CODE 4910-13-P